NEIGHBORHOOD REINVESTMENT CORPORATION

Sunshine Act Meetings

TIME AND DATE: 2 p.m., Thursday, February 17, 2022.

PLACE: Via Conference Call.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b(c)(2) and (4) permit closure of the following portion(s) of this meeting:

• Executive Session

Agenda

I. CALL TO ORDER

II. Sunshine Act Approval of Executive Session

III. Executive Session Report from CEO

IV. Executive Session: Report from CFO

V. Executive Session: NeighborWorks Compass™ Update

VI. Action Item Approval of Minutes

VII. Action Item HUD Counseling Grant

VIII. Discussion Item Interim CIO Report

IX. Discussion Item End of FY17-FY21 Strategic Plan Scorecard

X. Discussion Item Kansas City and New York Offices Lease Discussion

XI. Health Insurance Special Delegation of Authority

XII. Adjournment

Portions Open to the Public: Everything except the Executive Session.

Portions Closed to the Public: Executive Session.

CONTACT PERSON FOR MORE INFORMATION: Lakeyia Thompson, Special Assistant, (202) 524-9940; Lthompson@nw.org.

Lakeyia Thompson,
Special Assistant.

[FR Doc. 2022-02591 Filed 2-3-22; 4:15 pm]

BILLING CODE 7570-02-P